DEPARTMENT OF TRANSPORTATION

Federal Aviation Administration

14 CFR Part 71

[Docket No. FAA-2017-1031; Airspace Docket No. 17-ANM-21]

RIN 2120-AA66

Establishment of Class E Airspace and Amendment of Class E Airspace; Ephrata, WA

AGENCY: Federal Aviation Administration (FAA), DOT.

ACTION: Final rule.

SUMMARY: This action establishes Class E airspace extending upward from 700 feet above the surface, and modifies Class E surface area airspace at Ephrata Municipal Airport, Ephrata, WA. This action also updates the geographic coordinates of the airport in the associated Class E airspace areas to match the FAA's aeronautical database. These changes are necessary to accommodate airspace redesign for the safety and management of instrument flight rules (IFR) operations within the National Airspace System. Also, an editorial change would be made to the Class E surface airspace legal description replacing “Airport/Facility Directory” with the term “Chart Supplement”.

DATES: Effective 0901 UTC, April 25, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of this material at NARA, call (202) 741-6030, or go to https://www.archives.gov/federal-register/cfr/ibr-locations.html.

FAA Order 7400.11, Airspace Designations and Reporting Points, is published yearly and effective on September 15.

FOR FURTHER INFORMATION CONTACT: Bonnie Malgarini, Federal Aviation Administration, Operations Support Group, Western Service Center, 2200 S 216th Street, Des Moines, WA 98198; telephone (206) 231-2329.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes and amends Class E airspace at Ephrata Municipal Airport, Ephrata, WA, to support standard instrument approach procedures for IFR operations at the airport.

History

The FAA published a notice of proposed rulemaking in the Federal Register (83 FR 26889; June 11, 2018) for Docket No. FAA-2017-1031 to establish Class E airspace extending upward from 700 feet above the surface and modify Class E surface area airspace at Ephrata Municipal Airport, Ephrata, WA. Interested parties were invited to participate in this rulemaking effort by submitting written comments on the proposal to the FAA. No comments were received.

Class E airspace designations are published in paragraph 6005 of FAA Order 7400.11C, dated August 13, 2018, and effective September 15, 2018, which is incorporated by reference in 14 CFR 71.1. The Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

The FAA is amending Title 14 Code of Federal Regulations (14 CFR) part 71 by establishing Class E airspace extending upward from 700 feet above the surface and modifying Class E surface area airspace at Ephrata Municipal Airport, Ephrata, WA.

Class E surface area airspace is modified to within 4.2-mile radius of the airport (from a 4.4-mile radius) and within 2.7 miles each side of the Ephrata VORTAC 043° and 233° radials extending from the 4.2-mile radius to 7 miles northeast of the VORTAC. The exclusionary language noting Moses Lake, WA, Class D airspace is removed as it is not needed to define the boundary.

Class E airspace extending upward from 700 feet is established within 4.2 miles northwest and 6.6 miles southeast of the 043° and 223° bearings from the airport extending from the airport to 11.1 miles northeast and 6.3 miles southwest of the airport, respectively.

Additionally, this action updates the geographic coordinates (from lat. 47°18′17″ N, long. 119°30′49″ W to lat. 47°18′29″ N, long. 119°31′01″ W) for the associated Class E airspace areas to match the FAA's aeronautical database. Also, an editorial change is made to the Class E airspace legal descriptions replacing Airport/Facility Directory with Chart Supplement.

Class E airspace designations are published in paragraph 6002 and 6005, respectively, of FAA Order 7400.11C, dated August 13, 2018, and effective September 15, 2018, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 6002 Class E Airspace Designated as Surface Areas.

* * * * *

ANM WA E2 Ephrata, WA [Amended]

Ephrata Municipal Airport, WA

(Lat. 47°18′29″ N, long. 119°31′01″ W)

That airspace extending upward from the surface within a 4.2-mile radius of Ephrata Municipal Airport. This Class E airspace area is effective during specific dates and times established in advance by a Notice to Airmen. The effective date and time will thereafter be continuously published in the Chart Supplement.

* * * * *

ANM WA E5 Ephrata, WA [New]

Ephrata Municipal Airport, WA

(Lat. 47°18′29″ N, long. 119°31′01″ W)

That airspace extending upward from 700 feet above the surface within 4.2 miles northwest and 6.6 miles southeast of the 043° and 223° bearings from Ephrata Municipal Airport extending from the airport reference point to 11.1 miles northeast and 6.3 miles southwest of the airport.

Issued in Seattle, Washington, on January 31, 2019.
Shawn M. Kozica,
Group Manager, Operations Support Group, Western Service Center.

[FR Doc. 2019-02084 Filed 2-12-19; 8:45 am]

BILLING CODE 4910-13-P